DEPARTMENT OF ENERGY

Federal Energy Regulatory Commission

Notice of Non-Project Use of Project Lands and Waters and Soliciting Comments, Motions to Intervene, and Protests

October 10, 2001.

Take notice that the following application has been filed with the Commission and is available for public inspection:

a. Application Type: Non-Project Use of Project Lands and Waters.

b. Project No: 2232-428.

c. Date Filed: July 30, 2001.

d. Applicant: Duke Energy Corporation.

e. Name of Project: Catawba Wateree Hydroelectric Project.

f. Location: Counties and Lakes affected in North Carolina: Counties: Alexander, Burke, Caldwell, Catawba, Gaston, Iredell, Lincoln, McDowell, and Mecklenburg. Lakes: James, Rhodiss, Hickory, Lookout Shoals, Norman, and Mountain Island.

Counties and Lakes affected in South Carolina: Counties: Chester, Fairfield, Kershaw, Lancaster, and York. Lakes: Wylie, Fishing Creek, Great Falls, Rocky Creek, and Wateree.

The project does not utilize federal or tribal lands.

g. Filed Pursuant to: Federal Power Act, 16 U.S.C. 791(a)-825(r).

h. Applicant Contact: Mr. E.M. Oakley, Duke Energy Corporation, P.O. Box 1006 (EC12Y), Charlotte, NC 28201-1006. Phone: (704) 382-5778.

i. FERC Contact: Any questions on this notice should be addressed to Brian Romanek at (202) 219-3076, or e-mail address: brian.romanek@ferc.fed.us.

j. Deadline for filing comments and/or motions: November 16, 2001.

All documents (original and eight copies) should be filed with David P. Boergers, Secretary, Federal Energy Regulatory Commission, 888 First Street, N.E., Washington DC 20426. Comments, protests and interventions may be filed electronically via the Internet in lieu of paper. See, 18 CFR 385.2001(a)(1)(iii) and the instructions on the Commission's web site under the “e-Filing” link.

Please include the project number (2232-428) on any comments or motions filed.

k. Description of Proposal: Pursuant Commission Order issued February 2, 1996, entitled Order Approving and Modifying Shoreline Management Plan for the Catawba-Wateree Hydroelectric Project, the licensee filed a revised Shoreline Management Plan (SMP). Since the 1996 order, the licensee requested and was granted additional time to complete the plan. The plan addresses relevant aspects of the land and water resources for each of the 11 project reservoirs consisting of 1,653.6 shoreline miles. The plan includes, in part, for each reservoir Shoreline Use Classification Mapping, Shallow Water Fish Habitat Survey Results, a Cultural Resources Assessment, a Recreational Use and Boating Capacity Assessment, Proposed Recreational Enhancements, and information concerning woody debris management, riparian management, terrestrial species assessment, and cumulative impacts of shoreline development, and shoreline stabilization technique selection. A notable portion of the revised plan has been approved by the Commission by order issued December 1, 2000, entitled Order Modifying and Approving Revised Shoreline Management Classification Maps. This order was issued after notice and opportunity for hearing and after an Environmental Assessment (EA) was completed. The portions of the plan that were considered in that order and EA were the classification maps, shoreline stabilization technique selection, Shallow Water Fish Habitat Survey Results, and woody debris management.

l. Locations of the Application: Copies of this filing are on file with the Commission and are available for public inspection. This filing may also be viewed on the web at http://www.ferc.gov using the “RIMS” link, select “Docket #” and follow the instructions (call 202-208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-25931 Filed 10-15-01; 8:45 am]

BILLING CODE 6717-01-P